FEDERAL COMMUNICATIONS COMMISSION

47 CFR Part 73

[DA 05-654; MB Docket No. 05-102; RM-10630]

Radio Broadcasting Services; Akron and Denver, CO

AGENCY: Federal Communications Commission.

ACTION: Proposed rule.

SUMMARY: This document requests comments on a petition for rulemaking filed by Akron Broadcasting Company (“Petitioner”), seeking to amend the FM Table of Allotments by allotting Channel 279C1 at Akron, Colorado, as the community's first local aural transmission service. Petitioner's proposal also requires the reclassification of Station Station KRFX(FM), Denver, Colorado, Channel 287C to specify operation on Channel 278C0.KURB(FM), Channel 253C, Little Rock, Arkansas 253C0 pursuant to the reclassification procedures adopted by the Commission. See Second Report and Order in MM Docket 98-93 (1998 Biennial Regulatory Review—Streamlining of Radio Technical Rules in Parts 73 and 74 of the Commission's Rules) 65 FR 79773 (2000). An Order to Show Cause was issued to Jacor Broadcasting of Colorado, Inc. (“Jacor”), licensee of Station KRFX(FM), Denver, Colorado, affording it 30 days to express in writing an intention to seek authority to upgrade its technical facilities to preserve Class C status, or otherwise challenge the proposed action (RM-10630). Channel 279C1 can be allotted at Akron, Colorado, at Petitioner's requested site 24.5 kilometers (15.2 miles) southeast of the community at coordinates 40-03-28 NL and 102-57-35 WL.

DATES: Comments must be filed on or before May 5, 2005, and reply comments on or before May 20, 2005. Any counterproposal filed in this proceeding need only protect Station KRFX(FM), Denver, Colorado as a Class C0 allotment.

ADDRESSES: Federal Communications Commission, 445 Twelfth Street, SW., Washington, DC 20554. In addition to filing comments with the FCC, interested parties should serve the Petitioner, and Station KRFX's licensee as follows: John M. Pelkey, Esq., Garvey, Schubert Barer, 1000 Potomac Street, NW., Washington, DC 20007 (Counsel to Akron Broadcasting Company). Jacor Broadcasting of Colorado, Inc., c/o Marissa G. Repp, Esq., Hogan & Hartson L.L.P., Columbia Square, 555 13th St., NW., Washington, DC 20004-1109.

FOR FURTHER INFORMATION CONTACT: Victoria McCauley, Media Bureau, (202) 418-2180.

SUPPLEMENTARY INFORMATION: This is a synopsis of the Commission's Notice of Proposed Rule Making, MB Docket No. 05-102, adopted March 9, 2005, and released March 14, 2005. As noted, an Order to Show Cause was issued to Jacor Broadcasting of Colorado, Inc., licensee of Station KRFX(FM), Denver, Colorado, affording it 30 days to express in writing an intention to seek authority to upgrade its technical facilities to preserve Class C status, or otherwise challenge the proposed action. Jacor responded and filed the necessary application (File No. BPH-20030424AAO) which was granted and then rescinded. See Public Notice, Report No. 25498 (June 3, 2003). On November 9, 2004, that application (File No. BPH-20030424AAO) was dismissed. See Letter to Marissa G. Repp, Esq., BPH-20030424AAN, et al., Reference 1800B3 (Chief, Audio Div. November 9, 2004). That action remains pending on reconsideration and any action taken herein is subject to the outcome of that proceeding.

The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Colorado is amended by adding Akron, Channel 279C1, and by removing Channel 278C and adding Channel 278C0 at Denver.

Federal Communications Commission.
John A. Karousos,
Assistant Chief, Audio Division, Media Bureau.

[FR Doc. 05-5844 Filed 3-23-05; 8:45 am]

BILLING CODE 6712-01-P